DEPARTMENT OF HEALTH AND HUMAN SERVICES

National Institutes of Health

Statement of Delegation of Authority

Notice is hereby given that I have delegated to the Director, National Institutes of Health (NIH), the authorities under Public Law 107-84, Muscular Dystrophy Community Assistance, Research and Education Amendments (MD-CARE) Act, Part A, Title IV, Section 404E(d) of the Public Health Service Act, as amended, to establish the Muscular Dystrophy Coordinating Committee.

I reserve to myself the authority to appoint members of the Coordinating Committee, including the Chair of the Coordinating Committee.

This delegation shall be exercised in accordance with the Department's applicable policies, procedures, guidelines and regulations. In addition, I ratify and affirm any actions taken by the NIH Director or his subordinates which involve the exercise of the authorities delegated herein prior to the effective date of this delegation.

The delegation is effective upon date of signature.

Dated: June 26, 2002.
Tommy G. Thompson,
Secretary.

[FR Doc. 02-17129 Filed 7-8-02; 8:45 am]

BILLING CODE 4140-01-M